DEPARTMENT OF JUSTICE

Notice of Lodging of Consent Decree Under the Clean Water Act

Notice is hereby given that on January 30, 2012, a proposed First Amended Consent Decree in United States of America and State of Hawaii v. City and County of Honolulu, Civil No. 94-00765 DAE-KSC (D. Hawaii), was lodged with the United States District Court for the District of Hawaii.

On January 30, 2012, the United States, the State of Hawaii, the City and County of Honolulu, and three Intervenors (Sierra Club, Hawai'i Chapter, Hawai'i's Thousand Friends, and Our Children's Earth Foundation) filed a joint stipulation to amend the Consent Decree that was entered by the Court on December 17, 2010. The proposed First Amended Consent Decree amends the Consent Decree to provide for construction of a Kaneohe-Kailua Tunnel and an associated influent pump station instead of construction of the Kaneohe-Kailua Force Main required by the Consent Decree. In addition, the proposed First Amended Consent Decree will eliminate certain storage projects that will not be needed following completion of the tunnel project.

The Department of Justice will receive, for a period of thirty (30) days from the date of this publication, comments relating to the First Amended Consent Decree. Comments should be addressed to the Assistant Attorney General, Environment and Natural Resources Division, and either emailed to pubcomment-ees.enrd@usdoj.gov or mailed to P.O. Box 7611, U.S. Department of Justice, Washington, DC 20044-7611, and should refer to United States and State of Hawaii v. City and County of Honolulu, D.J. Ref. 90-5-1-1-3825.

The First Amended Consent Decree may be examined at U.S. EPA Region IX at 75 Hawthorne Street, San Francisco, California 94105. During the public comment period, the First Amended Consent Decree may also be examined on the following Department of Justice Web site: http://www.usdoj.gov/enrd/Consent_Decrees.html. A copy of the First Amended Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5241. In requesting a copy from the Consent Decree Library, please enclose a check in the amount of $25.50 (without appendices) or $38.75 (with appendices) (25 cents per page reproduction cost) payable to the U.S. Treasury or, if by email or fax, forward a check in that amount to the Consent Decree Library at the stated address.

Henry Friedman,
Assistant Chief, Environmental Enforcement Section, Environment and Natural Resources Division.

[FR Doc. 2012-2436 Filed 2-2-12; 8:45 am]

BILLING CODE 4410-15-P